Proclamation 10111 of October 30, 2020

National Entrepreneurship Month, 2020

By the President of the United States of America

A Proclamation

The United States is home to the most creative, passionate, and talented minds anywhere in the world. Throughout our history, we have pioneered revolutionary innovations, and we continue to reach new heights in business, science, and technology. During National Entrepreneurship Month, we celebrate the determination of those who strike out on their own to fuel our robust economy.

American entrepreneurs employ more than 60 million people nationwide and strengthen our communities with their hard work and ingenuity. Since taking office, I have cut onerous regulations at a historic rate, saving these businesses nearly $50 billion in compliance costs, unleashing the might of the American economy, and empowering proud American business owners. When the Government removes barriers to success, all Americans benefit. For the first time in decades, deregulation is saving small businesses from wasting precious hours on regulatory compliance and creating a dynamic economic landscape. Our policies have empowered entrepreneurs to do what they do best: innovate, create, and succeed.

We must continue supporting our Nation's economic success by preparing the next generation of American workers for the jobs of today and tomorrow. That is why I established the President's National Council for the American Worker, which is engaging with companies to invest in and develop programs for workplace education and skills training and retraining. I encourage more entrepreneurs to take the Pledge to America's Workers and join the 450 companies and trade associations that have already committed to providing more than 16 million education and training opportunities for American students and workers. Additionally, the United States-Mexico-Canada Agreement, which replaced the outdated and unfair North American Free Trade Agreement, is now in full effect, fulfilling my promise to level the playing field for American businesses and workers. This landmark agreement will help bring our manufacturing jobs back home while ensuring that more American innovators can run their businesses without shipping jobs overseas.

Our Nation's entrepreneurs have also been at the heart of our ongoing efforts to defeat the coronavirus. Working with private-sector companies, my Administration launched the largest industrial mobilization since World War II. In addition to helping to rapidly expand our Nation's testing capabilities and to produce unparalleled levels of personal protective equipment, many American innovators have been at the forefront of developing safe vaccines and effective therapeutics as quickly as possible. Entrepreneurs, especially small business owners, are key to our surging economy. That is why I pushed for and signed the Coronavirus Aid, Relief, and Economic Security (CARES) Act into law. This landmark legislation provided $2.2 trillion to our great American workers, businesses, and entrepreneurs. Under the CARES Act, the Small Business Administration and the Department of the Treasury approved 5.2 million Paycheck Protection Program loans to help our entrepreneurs across the country navigate the economic difficulties of this pandemic.

This month, we recognize the bold spirit of America's entrepreneurs who continue to prove that the American dream is alive and more obtainable than ever before. As we continue our great American comeback, we know that these innovative men and women will remain at the forefront of our efforts to create a brighter future for our country.

NOW, THEREFORE, I, DONALD J. TRUMP, President of the United States of America, by virtue of the authority vested in me by the Constitution and the laws of the United States, do hereby proclaim November 2020 as National Entrepreneurship Month. I call upon all Americans to commemorate this month with appropriate programs and activities and to celebrate November 17, 2020, as National Entrepreneurs' Day.

IN WITNESS WHEREOF, I have hereunto set my hand this thirtieth day of October, in the year of our Lord two thousand twenty, and of the Independence of the United States of America the two hundred and forty-fifth.

[FR Doc. 2020-24740

Filed 11-4-20; 8:45 am]

Billing code 3295-01-P